DEPARTMENT OF THE INTERIOR

National Park Service

[NPS-MWR-CUVA-13380; PPMWMWROW2/PPMPSAS1Y.YP0000]

Notice of Availability of the Record of Decision for the Final Trail Management Plan/Environmental Impact Statement, Cuyahoga Valley National Park, Ohio

AGENCY: National Park Service, Interior.

ACTION: Notice of availability.

SUMMARY: The National Park Service (NPS) announces the availability of the Record of Decision (ROD) for the Final Trail Management Plan/Environmental Impact Statement (Plan/EIS), Cuyahoga Valley National Park (Park), Ohio.

ADDRESSES: Copies of the ROD may be picked up in person or obtained by request in writing to Cuyahoga Valley National Park, 15610 Vaughn Road, Brecksville, Ohio 44141; or by telephone at (440) 546-5903. Copies of the ROD are also available at the NPS Planning, Environment, and Public Comment Web site: http://www.parkplanning.nps.gov/cuyahogatrailplan.

FOR FURTHER INFORMATION CONTACT: Outdoor Recreation Planner Lynn Garrity, at the address above or by telephone at (330) 342-0764.

SUPPLEMENTARY INFORMATION: The NPS has issued a ROD for the Final Plan/EIS for Cuyahoga Valley. On August 8, 2013, the Midwest Regional Director signed the ROD for the Plan/EIS. As soon as practicable, the NPS will begin to implement the selected alternative by developing a special regulation.

Under Alternative 1, the no-action alternative, the trails, authorized uses, and facilities addressed in this Plan/EIS would have remained as they currently exist and the Park would have continued to implement the 1985 Trail Plan.

Actions common to all action alternatives included the restoration of the existing trail system, adoption of the Sustainable Trail Guidelines, and the consideration of trail facilities. Trail facilities evaluated included a water trail system with paddle launch sites along the portion of the Cuyahoga River within the Park boundary; trailside and riverside campsites accessible by hiking, biking, or paddling; and improved parking facilities.

Alternative 2A emphasized the importance of enhancing the existing trail system's sustainability for future generations with limited expansion. Alternative 2B was the same as Alternative 2A with the addition of authorization of a linear mountain bike trail on existing trails within the Park and on Park partner lands. Alternative 3A was focused on the concept of utilizing areas as interchangeable recreational “trail hubs” that provide the full variety of trail experiences the Park has to offer. Trail hubs would have been placed at existing trailheads and visitor centers where various trail and outdoor recreation activities would have commenced. Alternative 3B was the same as Alternative 3A with the addition of new mountain bike trails consisting of two zones of loop routes and additional facilities. Alternative 4A focused on the destination rather than the journey of the Park's trail network. Park features and attractions were the focus of this Alternative with the trail system serving as the main visitor access to these features. Alternative 4B was the same as Alternative 4A with the addition of new mountain bike trails.

Alternative 5, the selected alternative, combines trail elements from all of the Alternatives and proposed trail facilities. The approach for Alternative 5 will include all common elements and an increase of 37 miles of trails from existing conditions, if fully implemented. This alternative will include a new 10-mile off-road single track bicycle trail, trail facilities including expanded and new parking areas, introduction of launch sites for water trail access, and expansion of hike/bike-in and paddle-in campsites. Alternative 5 will best meet the mission of the Park, its resource conditions and visitor use, and the Plan/EIS purpose, goals and objectives.

Dated: November 25, 2013.
Michael T. Reynolds,
Regional Director, Midwest Region.

[FR Doc. 2013-29827 Filed 12-13-13; 8:45 am]

BILLING CODE 4310-MA-P